INTERNATIONAL BOUNDARY AND WATER COMMISSION, UNITED STATES AND MEXICO

United States Section; Notice of Availability of the Final Environmental Assessment (EA) and Finding of No Significant Impact Arroyo Colorado at Harlingen Flood Flow Improvement Project, Cameron County, Texas

AGENCY: United States Section, International Boundary and Water Commission, United States and Mexico (USIBWC).

ACTION: Notice.

SUMMARY: Pursuant to the National Environmental Policy Act of 1969; the Council on Environmental Quality Final Regulations, and the USIBWC Operational Procedures for Implementing Section 102 of NEPA, published in the Federal Register September 2, 1981, the USIBWC hereby gives notice that the FINAL Environmental Assessment and Finding of No Significant Impact Arroyo Colorado at Harlingen Flood Flow Improvement Project, Cameron County Texas is available.

FOR FURTHER INFORMATION CONTACT: Kelly Blough, Environmental Protection Specialist, USIBWC, 4191 N Mesa, El Paso, Texas 79902. Telephone: (915) 832-4734, Fax: (915) 493-2428, email: Kelly.Blough@ibwc.gov.

SUPPLEMENTARY INFORMATION: The USIBWC prepared the EA to evaluate the environmental effects of several options that would restore the full flood conveyance capabilities to a 6.3-mile reach of Arroyo Colorado between U.S. Highway 77 Business (US 77 Business) and Cemetery Road in Harlingen, Cameron County Texas. The Preferred Alternative would dredge sediment from the channel throughout the reach and expand existing vegetation management operations. Vegetation management currently occurs along a 3.7-mile reach of Arroyo Colorado between US 77 Business and Farm-to-Market Road 509 (FM 509). The Preferred Alternative would expand vegetation management operations to include the 2.6-mile reach from FM 509 to Cemetery Road. These actions are intended to restore Arroyo Colorado's design flood conveyance capacity of 21,000 cubic feet per second.

The final EA evaluates potential environmental impacts of the No Action Alternative and the Preferred Alternative. Two additional alternatives were considered and evaluated but were removed from consideration because they were either not effective or not feasible. Potential impacts on natural, cultural, and other resources were evaluated. A Finding of No Significant Impact has been prepared for the Preferred Alternative based on a review of the facts and analyses contained in the EA.

An open-house public scoping meeting was held for the proposed project on December 12, 2019, at the Harlingen Community Center located at 201 E. Madison Avenue, Harlingen, Texas 78552. Notifications of the meeting and instructions to access materials and provide comment electronically were sent by mail to approximately 200 recipients. Recipients included adjacent landowners, regional and local representatives of federal and state resource agencies, interested Native American tribes, and local elected officials. Additionally, notifications were posted in newspapers of local circulation and on City of Harlingen and USIBWC media outlets during the first week of December.

Thirty-five attendees signed in and 13 comments were received within the comment period. Approximately seven commenters stated that they were in general support of the Expanded Vegetation & Sediment Removal Alternative (i.e., the Preferred Alternative). One commenter expressed support for a combination of the three actions that would include Off-Channel Storage, Expanded Vegetation Removal, and Expanded Vegetation & Sediment Removal. The remaining five comments proposed additional actions outside of the scope of this project that may be considered in the future. An environmental impact statement will not be prepared unless additional information which may affect this decision is brought to our attention within 30 days from the date of this Notice.

Availability: The electronic version of the Final EA is available on the USIBWC web page: https://www.ibwc.gov/Files/FinalEA_ArroyoColorado_Harlinen_Signed_082420.pdf.

Dated: September 16, 2020.
Jennifer Pena,
Chief Legal Counsel, International Boundary and Water Commission, United States and Mexico, United States Section.

[FR Doc. 2020-20909 Filed 10-1-20; 8:45 am]

BILLING CODE 7010-01-P